DEPARTMENT OF TRANSPORTATION

Federal Aviation Administration

[Docket No. FAA-2019-0334]

Agency Information Collection Activities: Requests for Comments; Clearance of New Approval of Information Collection: Safety Statement Requirement for Manufacturers of Small Unmanned Aircraft Correction

AGENCY: Federal Aviation Administration (FAA), DOT.

ACTION: Notice and request for comments.

SUMMARY: In accordance with the Paperwork Reduction Act of 1995, FAA invites public comments about our intention to request the Office of Management and Budget (OMB) approval of a new information collection. The collection involves manufacturers of small unmanned aircraft providing a safety statement to owners of the UAS they produce. This is a statutory requirement. To minimize the burden on small businesses, the FAA has developed an example safety statement that can be used to satisfy the requirement. This FRN corrects the previously submitted 60-Day FRN to include updated contact information and docket number.

DATES: Written comments should be submitted by July 8, 2019.

ADDRESSES: Please send written comments:

By Electronic Docket: www.regulations.gov (Enter docket number FAA-2019-0334 into search field).

By mail: Jessica Orquina, 490 L'Enfant Plaza Suite 7225, Washington, DC 20024.

By fax: 202-267-8249.

FOR FURTHER INFORMATION CONTACT: Jessica Orquina by email at: jessica.a.orquina@faa.gov; phone: 202-267-7493.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Safety Statement Requirement for Manufacturers of Small Unmanned Aircraft Correction.

Form Numbers: N/A.

Type of Review: This is a new information collection request.

Background: Section 2203 of the FAA Extension, Safety, and Security Act of 2016 (Pub. L. 114-90) requires manufacturers of small unmanned aircraft to make available to the owner a safety statement that satisfies requirements detailed in that section. The requirements include:

1. Information about, and sources of, laws and regulations applicable to small unmanned aircraft;

2. Recommendations for using small unmanned aircraft in a manner that promotes the safety of person and property;

3. The date that the safety statement was created or last modified; and

4. Language approved by the Administrator regarding the following:

a. A person may operate the small unmanned aircraft as a model aircraft (as defined in section 336 of the FAA Modernization and Reform Act of 2012 (49 U.S.C. 40101 note)) or otherwise in accordance with Federal Aviation Administration authorization or regulation, including requirements for the completion of any applicable airman test.

b. The definition of a model aircraft under section 336 of the FAA Modernization and Reform Act of 2012 (49 U.S.C. 40101 note).

c. The requirements regarding the operation of a model aircraft under section 336 of the FAA Modernization and Reform Act of 2012 (49 U.S.C. 40101 note).

d. The Administrator may pursue enforcement action against a person operating model aircraft who endangers the safety of the national airspace system.

By statute, manufacturers will be required to make a safety statement available to small UAS owners. This manufacturer insert serves as an example safety statement that UAS manufacturers may use. The FAA provides an example safety statement and guidance to assist manufacturers to comply with this requirement.

Respondents: Manufacturers of small UAS sold in the U.S. (Association for Unmanned Vehicle Systems International (AUVSI) reports there are 471 active manufacturers in February 2019.)

Frequency: On occasion.

Estimated Average Burden per Response: 40 Hours.

Estimated Total Annual Burden: 18,840.

Issued in Washington, DC, on April 29, 2019.
Jessica Orquina,
Senior Communications Specialist, Executive Office, AUS-10, UAS Integration Office.

[FR Doc. 2019-09252 Filed 5-6-19; 8:45 am]

BILLING CODE 4910-13-P